DEPARTMENT OF HOUSING AND URBAN DEVELOPMENT

[Docket No. FR-5415-FA-24]

Announcement of Funding Awards for Fiscal Year 2010 Transformation Initiative: Sustainable Communities Research Grant (SCRGP) Program

AGENCY: Office of the Assistant Secretary of Policy Development and Research, HUD.

ACTION: Announcement of funding awards.

SUMMARY: In accordance with Section 102(a)(4)(C) of the Department of Housing and Urban Development (HUD) Reform Act of 1989, this document notifies the public of funding for the Fiscal Year (FY) 2010 Transformative Initiative: Sustainable Communities Research Grant Program (SCRGP). The purpose of this document is to announce the names and addresses of the award winners and the amount of the awards to be used to help complete the research projects developed under this program.

FOR FURTHER INFORMATION CONTACT: Regina Gray, Division of Affordable Housing Research and Technology, Office of Policy Development and Research, U.S. Department of Housing and Urban Development, Room 8132, 451 Seventh Street, SW., Washington, DC, 20410, Telephone (202) 402-2876. To provide service for persons who are hearing- or speech-impaired, this number may be reached via TTY by dialing the Federal Information Relay Service on (800) 877-8339 or (202) 708-1455. (Telephone numbers, other than “800” TTY numbers, are not tool free).

SUPPLEMENTARY INFORMATION: The Office of Policy Development and Research (PD&R), under the Assistant Secretary, administered the FY10 Sustainable Communities Research Grant Program (SCRGP) to invite research proposals that build on existing evidence-based scholarship in the broad area of sustainability. Research proposals were submitted in five subject categories: (a) Affordable housing development and preservation; (b) transportation and infrastructure planning; (c) healthy community design; (d) “green” and energy-efficient practices; and, (e) an open research category.

The Catalog of Federal Domestic Assistance number for this program is 14.523.

On January 4, 2011, HUD posted a Notice of Public Interest (NOPI) for Fiscal Year 2010 Transformation Initiative: Sustainable Communities Research Grant Program on Grants.gov. Policy Development and Research reserved $1,500,000 and the Office of Sustainable Housing and Communities (OSHC) added an additional $1,000,000 under the Sustainable Communities Initiative (SCI), bringing the total amount to $2,500,000. Funds for both programs were made available by the Department of Housing and Urban Development Appropriations Act, 2010 (Pub. L. 111-117 approved December 16, 2009). Applicants could request a minimum amount of $150,000 and a maximum of $500,000. The grant performance period is for 24 months (2 years). Awards under this NOPI will be administered in the form of a Cooperative Agreements.

The Department reviewed, evaluated and scored the applications received based on the rating criteria in the NOPI. As a result, HUD has accepted the applications announced below, and in accordance with Section 102(a)(4)(C) of the Department of Housing and Urban Development Reform Act of 1989 (103 Stat. 1987, U.S.C. 3545). More information about the awardees may be found at http://www.huduser.org.

Dated: August 24, 2011.
Kevin J. Neary,
Deputy Assistant Secretary for Research Evaluation and Monitoring.

List of Awardees for Grant Assistance Under the Fiscal Year (FY) 2010 Sustainable Communities Research Grant Program Funding Competition, by Institution, Address, Grant Amount and Point of Contact

1. The University of Miami, Dr. Scott C. Brown, Department of Epidemiology & Public Health, 1425 NW., 10th Avenue, Miami, Florida. Grant: $500,000.

2. The National Housing Trust, Mr. Todd Nedwick, 1101 30th Street, NW., Washington, D.C. Grant: $348,696.

3. Arizona State University, Ms. Tamara Deuser, P.O. Box 8760111, 600 South Mill Avenue, Tempe, Arizona 85287-5302. Grant: $500,000.

4. Virginia Polytechnic Institute and State University, Mr. Andrew McCoy, 1880 Pratt Drive, Blacksburg, Virginia 24060-3580. Grant: $363,475.

5. International City/County Management Association, Ms. Barbara Yuhas, 777 North Capitol Street, NE., Washington, DC. Grant: $284,666.

6. The Urban Institute, Dr. Rolf Pendall, Metropolitan Housing & Communities Policy Center, 2100 M Street, NW., Washington, DC. Grant: $500,000.

[FR Doc. 2011-22871 Filed 9-6-11; 8:45 am]

BILLING CODE 4210-67-P